DEPARTMENT OF AGRICULTURE

Food and Nutrition Service

Agency Information Collection Activities: Professional Standards Training Tracker Tool

AGENCY: Food and Nutrition Service (FNS), USDA.

ACTION: Notice.

SUMMARY: In accordance with the Paperwork Reduction Act of 1995, this notice invites the general public and other public agencies to comment on this proposed information collection. This collection is an extension, without change, of a currently approved collection for assisting state agencies to record, track and manage the required training hours in four major areas (Nutrition, Operations, Administration, Communications and Marketing) to meet the requirements of the Healthy Hunger Free Kids Act (HHFKA) of 2010 Professional Standards Rule. The HHFKA (Section 306) requires Professional Standards for state and local school district nutrition professionals. In addition to hiring standards, mandatory annual training will be required for all individuals involved in preparing school meals. To meet the training requirements and assist in keeping track of training courses, FNS developed a web-based application tool with a SQL-server database, which is available to local educational agencies and school food authorities through the FNS public website. While training requirements are mandatory, using the USDA Tracking Tool is voluntary. School nutrition professionals can use any method to track and manage their trainings. These resources facilitate compliance with HHFKA requirements and are provided at no cost to the state, district, or individuals.

DATES: Written comments must be received on or before April 20, 2020.

ADDRESSES: Comments may be sent to: Kaushalya Heendeniya, Food and Nutrition Service, U.S. Department of Agriculture, Braddock Metro Center II, 1320 Braddock Place, Room 415, Alexandria, VA 22314. Comments may also be submitted via email to kaushalya.heendeniya1@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kaushalya Heendeniya at 703-305-0037.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Professional Standards Training Tracker Tool.

Form Number: None.

OMB Number: 0584-0626.

Expiration Date: 06/30/2020.

Type of Request: Extension, without change, of a currently approved collection.

Abstract: The Healthy Hunger Free Kids Act of 2010 (Section 306) requires Professional Standards for state and local school district nutrition professionals. In addition to hiring standards, mandatory annual training will be required for all individuals involved in preparing school meals. To meet the training requirements and assist in keeping track of training and training courses, FNS developed a web-based application tool with a SQL-server database, which is available to local educational agencies and school food authorities through the FNS public website, with a login authentication. These resources facilitate compliance with HHFKA requirements and are provided at no cost to the state, district, or individuals. In addition, this Professional Standards Training Tracking Tool application is mobile friendly to ensure easy usage and accessibility across mobile devices. The application is compatible with all mobile operating systems (iOS, Android, and Windows).

The user is able to create a user profile with the following information:

• School District/Address

• School Name/Address

• Individual Name—Contact Information/Email address

• Title of Individual or Role in school nutrition program

• Hiring Date

The user can record the following information for a completed training:

• Key Area

• Training Topic

• Learning Objective

• Training Title

• Training Hours/Minutes

• Date of Training

• Provider or Organization offering training, including state, local or national

• Level of Training by employee position (e.g., employee, manager, etc.)

The manager user has the ability to enter multiple names for one specific training without having to repeatedly enter training information. Certificates of completion are printed for all employees once the annual required training hours are met. The tool also provides the user the ability to export and save results in multiple file formats, including PDF (.pdf), Excel and Word 2000 or higher (.docx). It has a user-centered, simple, intuitive interface. Streamlined and intuitive navigation is offered for easy access to all functionality.

Affected Public: State, Local, and Tribal Government. Respondent groups include state agency personnel and school nutrition professionals.

Estimated Number of Respondents: The total estimated number of respondents is 10,006. This includes 6 State agency personnel and 10,000 school nutrition professionals who voluntarily choose to utilize this tracking tool. All respondents will be offered a 60-minute training refresher webinar to highlight enhancements.

Estimated Number of Responses per Respondent: Total estimated number of responses per respondent across the entire collection is 7. The estimated number of responses per respondent for the tracking tool is five. The tracking tool users will first be required to create their user profile, which will be saved for future use. It is estimated that the user will be updating and managing their records on a quarterly basis. The estimated number of responses per respondent for the training webinar and the recording of trainings is one.

Estimated Total Annual Responses: 70,042.

Estimated Time per Response: The estimated time per response across the entire collection is approximately 14 minutes (0.24 hours). For the training tracker tool, the estimated time of response varies from five to ten minutes depending on familiarity of the tool and the amount of reports created with an average estimated time of 7.5 minutes (0.125 hours) for all participants. The training refresher webinar of 60 minutes (1 hour) will be available for all participants. Participants will record trainings into the tracking tool, which is estimated to take 5 minutes (0.083 hours) to complete.

Estimated Total Annual Burden on Respondents: 17,090.25 hours (rounded to 17,090 hours). See the table below for estimated total annual burden for each type of respondent.

Respondent | Estimated # respondent | Responses annually per respondent | Total annual responses (Col. bxc) | Estimated Avg. # of hours per response | Estimated total hours (Col. dxe)
Reporting Burden for State, Local, and Tribal Govt
State agency Personnel | 6 | 5 | 30 | 0.125 | 3.75
Training Webinar | 6 | 1 | 6 | 1 | 6
Recording of Trainings on the Tool | 6 | 1 | 6 | 0.083 | 0.498
School Nutrition Professionals | 10,000 | 5 | 50,000 | 0.125 | 6,250
Training Webinar | 10,000 | 1 | 10,000 | 1 | 10,000
Recording of Trainings on the Tool | 10,000 | 1 | 10,000 | 0.083 | 830
Total Reporting Burden | 10,006 | 7 | 70,042 | 0.24 | 17,090.25

Dated: February 6, 2020.
Pamilyn Miller,
Administrator, Food and Nutrition Service.

[FR Doc. 2020-03370 Filed 2-19-20; 8:45 am]

BILLING CODE 3410-30-P